DEPARTMENT OF DEFENSE

GENERAL SERVICES ADMINISTRATION

NATIONAL AERONAUTICS AND SPACE ADMINISTRATION

[Docket 2012-0076; Sequence 51; OMB Control No. 9000-0108]

Federal Acquisition Regulation; Submission for OMB Review; Bankruptcy (FAR Subpart 42.9; 52.242-13)

AGENCY: Department of Defense (DOD), General Services Administration (GSA), and National Aeronautics and Space Administration (NASA).

ACTION: Notice of request for comments regarding the extension of a previously existing OMB clearance.

SUMMARY: Under the provisions of the Paperwork Reduction Act, Regulatory Secretariat will be submitting to the Office of Management and Budget (OMB) a request to review and approve an extension of a previously approved information collection requirement concerning Bankruptcy. A notice was published in the Federal Register at 77 FR 73660, December 11, 2012. No comments were received.

DATES: Submit comments on or before August 19, 2013.

ADDRESSES: Submit comments regarding this burden estimate or any other aspect of this collection of information, including suggestions for reducing this burden, to: General Services Administration, FAR Desk Officer, OMB, Room 10102, NEOB, Washington, DC 20503. Please cite OMB Control No. 9000-0108, Bankruptcy, in all correspondence.

FOR FURTHER INFORMATION CONTACT: Curtis E. Glover, Sr., Procurement Analyst, Contract Policy Division, GSA, (202) 501-1448 or email curtis.glover@gsa.gov.

A. Purpose

Under statute, contractors may enter into bankruptcy which may have a significant impact on the contractor's ability to perform its Government contract. The Government often does not receive adequate and timely notice of this event. The clause at 52.242-13 requires contractors to notify the contracting officer within 5 days after the contractor enters into bankruptcy.

B. Annual Reporting Burden

Respondents: 790.

Responses per Respondent: 1.

Annual Responses: 790.

Hours per Response: 1.25.

Total Burden Hours: 988.

Obtaining Copies of Proposals: Requesters may obtain a copy of the information collection documents from the General Services Administration, Regulatory Secretariat (MVCB), 1800 F Street NW., 2nd Floor, Washington, DC 20405-0001, telephone (202) 501-4755. Please cite OMB Control No. 9000-0108, Bankruptcy, in all correspondence.

Dated: July 15, 2013.
William Clark,
Acting Director, Federal Acquisition Policy Division, Office of Governmentwide Acquisition Policy, Office of Governmentwide Policy, Office of Acquisition Policy.

[FR Doc. 2013-17390 Filed 7-18-13; 8:45 am]

BILLING CODE 6820-EP-P